DEPARTMENT OF ENERGY

Federal Energy Regulatory Commission

Combined Notice of Filings #1

Take notice that the Commission received the following electric corporate filings:

Docket Numbers: EC15-195-000,

Applicants: RET Modesto Solar LLC,

Description: Application of RET Modesto Solar, LLC for Authorization Under Section 203 and Request for Expedited Consideration and Confidential Treatment.

Filed Date: 8/27/15,

Accession Number: 20150827-5337,

Comments Due: 5 p.m. ET 9/17/15,

Docket Numbers: EC15-196-000.

Applicants: Breckinridge Wind Project, LLC.

Description: Application for Authorization Under Section 203 of the Federal Power Act and Request for Expedited Action of Breckinridge Wind Project, LLC.

Filed Date: 8/27/15.

Accession Number: 20150827-5353.

Comments Due: 5 p.m. ET 9/17/15.

Take notice that the Commission received the following electric rate filings:

Docket Numbers: ER15-2547-000.

Applicants: Florida Power & Light Company.

Description: Section 205(d) Rate Filing: FPL Revisions to FKEC Rate Schedule FERC No. 322 to be effective 1/1/2014.

Filed Date: 8/27/15.

Accession Number: 20150827-5281.

Comments Due: 5 p.m. ET 9/17/15.

Docket Numbers: ER15-2548-000.

Applicants: PJM Interconnection, L.L.C.

Description: Tariff Cancellation: Notice of Cancellation of WMPA No. 3677, Queue No. V4-025 to be effective 8/12/2015.

Filed Date: 8/27/15.

Accession Number: 20150827-5300.

Comments Due: 5 p.m. ET 9/17/15.

Docket Numbers: ER15-2549-000.

Applicants: PJM Interconnection, L.L.C.

Description: Tariff Cancellation: Notice of Cancellation of Original Service Agreement No. 3676, Queue No. V4-025 to be effective 8/12/2015.

Filed Date: 8/27/15.

Accession Number: 20150827-5302.

Comments Due: 5 p.m. ET 9/17/15.

Docket Numbers: ER15-2550-000.

Applicants: Rancho Cucamonga Municipal Utility.

Description: Petition of Rancho Cucamonga Municipal Utility for Limited Waiver of the California Independent System Operator Corporation's Tariff Provisions.

Filed Date: 8/27/15.

Accession Number: 20150827-5317.

Comments Due: 5 p.m. ET 9/17/15.

Docket Numbers: ER15-2551-000.

Applicants: Avista Corporation.

Description: Avista Corporation submits Average System Cost Filing for Sales of Electric Power to the Bonneville Power Administration, FY 2016-2017.

Filed Date: 8/28/15.

Accession Number: 20150828-5069.

Comments Due: 5 p.m. ET 9/18/15.

Docket Numbers: ER15-2552-000.

Applicants: Midcontinent Independent System Operator, Inc.

Description: Section 205(d) Rate Filing: 2015-08-28_SA 2794 ATC-City of Gladstone CFA to be effective 10/27/2015.

Filed Date: 8/28/15.

Accession Number: 20150828-5103.

Comments Due: 5 p.m. ET 9/18/15.

Docket Numbers: ER15-2553-000.

Applicants: Midcontinent Independent System Operator, Inc.

Description: Section 205(d) Rate Filing: 2015-08-28_SA 2797 ATC-Lake Mills Light and Water CFA to be effective 10/27/2015.

Filed Date: 8/28/15.

Accession Number: 20150828-5105.

Comments Due: 5 p.m. ET 9/18/15.

Docket Numbers: ER15-2554-000.

Applicants: Midcontinent Independent System Operator, Inc.

Description: Section 205(d) Rate Filing: 2015-08-28_SA 2798 ATC-City of Menasha CFA to be effective 10/27/2015.

Filed Date: 8/28/15.

Accession Number: 20150828-5106.

Comments Due: 5 p.m. ET 9/18/15.

Docket Numbers: ER15-2555-000.

Applicants: Midcontinent Independent System Operator, Inc.

Description: Section 205(d) Rate Filing: 2015-08-28_SA 2799 ATC-City of New London CFA to be effective 10/27/2015.

Filed Date: 8/28/15.

Accession Number: 20150828-5107.

Comments Due: 5 p.m. ET 9/18/15.

Docket Numbers: ER15-2556-000.

Applicants: Midcontinent Independent System Operator, Inc.

Description: Section 205(d) Rate Filing: 2015-08-28_SA 2801 ATC-City of Sturgeon Bay CFA to be effective 10/27/2015.

Filed Date: 8/28/15.

Accession Number: 20150828-5108.

Comments Due: 5 p.m. ET 9/18/15.

Docket Numbers: ER15-2557-000.

Applicants: Midcontinent Independent System Operator, Inc.

Description: Section 205(d) Rate Filing: 2015-08-28_SA 2804 ATC-City of Richland Center CFA to be effective 10/27/2015.

Filed Date: 8/28/15.

Accession Number: 20150828-5110.

Comments Due: 5 p.m. ET 9/18/15.

Docket Numbers: ER15-2558-000.

Applicants: Florida Power & Light Company.

Description: Section 205(d) Rate Filing: FPL Revisions to LCEC Rate Schedule FERC No. 317 to be effective 1/1/2014.

Filed Date: 8/28/15.

Accession Number: 20150828-5142.

Comments Due: 5 p.m. ET 9/18/15.

Docket Numbers: ER15-2559-000.

Applicants: Arizona Public Service Company.

Description: Section 205(d) Rate Filing: Rate Schedule No. 217 Exhibit B Revisions to be effective 10/28/2015.

Filed Date: 8/28/15.

Accession Number: 20150828-5153.

Comments Due: 5 p.m. ET 9/18/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 28, 2015.
Kimberly D. Bose,
Secretary.

[FR Doc. 2015-21981 Filed 9-3-15; 8:45 am]

BILLING CODE 6717-01-P